DEPARTMENT OF HOMELAND SECURITY

Federal Emergency Management Agency

44 CFR Part 65

[Docket ID FEMA-2011-0002; Internal Agency Docket No. FEMA-B-1231]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Madison | Unincorporated areas of Madison County (11-04-3252P) | September 8, 2011; September 15, 2011; The Huntsville Times | The Honorable Mike Gillespie, Chairman, Madison County Commission, 10 North Side Square, Huntsville, AL 35801 | January 13, 2012 | 010151
Tuscaloosa | Town of Coaling (11-04-2431P) | September 8, 2011; September 15, 2011; The Tuscaloosa News | The Honorable Charles Foster, Mayor, Town of Coaling, 11281 Stephens Loop, Coaling, AL 35453 | January 13, 2012 | 010480
Tuscaloosa | Unincorporated areas of Tuscaloosa County (11-04-2431P) | September 8, 2011; September 15, 2011; The Tuscaloosa News | The Honorable W. Hardy McCollum, Probate Judge, Tuscaloosa County Commission, 714 Greensboro Avenue, Tuscaloosa, AL 35401 | January 13, 2012 | 010201
Arizona:
Coconino | City of Flagstaff (11-09-2204P) | June 3, 2011; June 10, 2011; The Arizona Daily Sun | The Honorable Sara Presler, Mayor, City of Flagstaff, 211 West Aspen Avenue, Flagstaff, AZ 86001 | May 27, 2011 | 040020
Pima | City of Tucson (11-09-1158P) | August 5, 2011; August 12, 2011; The Arizona Daily Star | The Honorable Bob Walkup, Mayor, City of Tucson, 255 West Alameda Street, Tucson, AZ 85701 | August 29, 2011 | 040076
Pima | Unincorporated areas of Pima County (11-09-0275P) | September 20, 2011; September 27, 2011; The Daily Territorial | The Honorable Ramón Valadez, Chairman, Pima County Board of Supervisors, 130 West Congress Street, 11th Floor, Tucson, AZ 85701 | January 25, 2012 | 040073
Pima | Unincorporated areas of Pima County (12-09-0017P) | May 31, 2011; June 7, 2011; The Daily Territorial | The Honorable Ramón Valadez, Chairman, Pima County Board of Supervisors, 130 West Congress Street, 11th Floor, Tucson, AZ 85701 | October 6, 2011 | 040073
Colorado:
Douglas | Town of Castle Rock (11-08-0329P) | September 8, 2011; September 15, 2011; The Douglas County News-Press | The Honorable Paul Donahue, Mayor, Town of Castle Rock, 100 North Wilcox Street, Castle Rock, CO 80104 | January 13, 2012 | 080050
Douglas | Unincorporated areas of Douglas County (11-08-0329P) | September 8, 2011; September 15, 2011; The Douglas County News-Press | The Honorable Jill E. Repella, Chair, Douglas County Board of Commissioners, 100 3rd Street, Castle Rock, CO 80104 | January 13, 2012 | 080049
Larimer | Unincorporated areas of Larimer County (11-08-0189P) | September 8, 2011; September 15, 2011; The Fort Collins Coloradoan | The Honorable Tom Donnelly, Chairman, Larimer County Board of Commissioners, 200 West Oak Street, 2nd Floor, Fort Collins, CO 80522 | September 29, 2011 | 080101
Florida:
Broward | Town of Hillsboro Beach (11-04-3579P) | June 28, 2011; July 5, 2011; The Sun-Sentinel | The Honorable Dan Dodge, Mayor, Town of Hillsboro Beach, 1210 Hillsboro Mile, Hillsboro Beach, FL 33062 | June 21, 2011 | 120040
Monroe | Unincorporated areas of Monroe County (11-04-5095P) | September 28, 2011; October 5, 2011; The Key West Citizen | The Honorable Heather Carruthers, Mayor, Monroe County, 530 Whitehead Street, Key West, FL 33040 | February 2, 2012 | 125129
Orange | City of Orlando (11-04-2561P) | June 30, 2011; July 7, 2011; The Orlando Weekly | The Honorable Buddy Dyer, Mayor, City of Orlando, 400 South Orange Avenue, 3rd Floor, Orlando, FL 32808 | November 4, 2011 | 120186
Orange | City of Orlando (11-04-5608P) | September 29, 2011; October 6, 2011; The Orlando Weekly | The Honorable Buddy Dyer, Mayor, City of Orlando, 400 South Orange Avenue, 3rd Floor, Orlando, FL 32808 | September 20, 2011 | 120186
Pinellas | City of Gulfport (10-04-7908P) | September 15, 2011; September 22, 2011; The St. Petersburg Times | The Honorable Mike Yakes, Mayor, City of Gulfport, 2401 53rd Street, Gulfport, FL 33707 | January 20, 2012 | 125108
Pinellas | Unincorporated areas of Pinellas County (10-04-7908P) | September 15, 2011; September 22, 2011; The St. Petersburg Times | The Honorable Susan Latvala, Chair, Pinellas County Board of Supervisors, 315 Court Street, Clearwater, FL 33756 | January 20, 2012 | 125139
Sumter | Unincorporated areas of Sumter County (11-04-6000P) | September 8, 2011; September 15, 2011; The Sumter County Times | The Honorable Don Burgess, Chairman, Sumter County Board of Commissioners, 7375 Powell Road, Wildwood, FL 34785 | August 30, 2011 | 120296
Nevada:
Clark | City of Las Vegas (11-09-0799P) | September 1, 2011; September 8, 2011; The Las Vegas Review-Journal | The Honorable Oscar B. Goodman, Mayor, City of Las Vegas, 400 Stewart Avenue, 10th Floor, Las Vegas, NV 89101 | January 6, 2012 | 325276
Clark | City of North Las Vegas (11-09-0799P) | September 1, 2011; September 8, 2011; The Las Vegas Review-Journal | The Honorable Shari L. Buck, Mayor, City of North Las Vegas, 2200 Civic Center Drive, North Las Vegas, NV 89030 | January 6, 2012 | 320007
South Carolina:
Dorchester | Unincorporated areas of Dorchester County (10-04-8306P) | August 24, 2011; August 31, 2011; The Summerville Journal Scene | The Honorable Larry S. Hargett, Chairman, Dorchester County Council, 201 Johnston Street, Dorchester, SC 29477 | December 29, 2011 | 450068
Spartanburg | Unincorporated areas of Spartanburg County (11-04-4008P) | September 8, 2011; September 15, 2011; The Spartanburg Herald-Journal | The Honorable Jeffrey A. Horton, Chairman, Spartanburg County Council, 366 North Church Street, Suite 1000, Spartanburg, SC 29303 | August 30, 2011 | 450176
Tennessee:
Tipton | City of Munford (11-04-1663P) | June 16, 2011; June 23, 2011; The Leader | The Honorable Dwayne Cole, Mayor, City of Munford, 1397 Munford Avenue, Munford, TN 38058 | October 21, 2011 | 470422
Tipton | Unincorporated areas of Tipton County (11-04-1663P) | June 16, 2011; June 23, 2011; The Leader | The Honorable Jeff Huffman, Tipton County Executive, 220 U.S. Route 51 North, Suite 2, Covington, TN 38019 | October 21, 2011 | 470340
Wyoming:
Fremont | City of Lander (11-08-0099P) | September 11, 2011; September 18, 2011; The Lander Journal | The Honorable Mick Wolfe, Mayor, City of Lander, 240 Lincoln Street, Lander, WY 82520 | January 16, 2012 | 560020

(Catalog of Federal Domestic Assistance No. 97.022, “Flood Insurance.”)

Dated: November 18, 2011.
Sandra K. Knight,
Deputy Associate Administrator for Mitigation, Department of Homeland Security, Federal Emergency Management Agency.

[FR Doc. 2011-31271 Filed 12-5-11; 8:45 am]

BILLING CODE 9110-12-P